ENVIRONMENTAL PROTECTION AGENCY

[EPA-HQ-OW-2006-0408; FRL 9532-9]

Information Collection Request Submitted to OMB for Review and Approval; Comment Request; EPA's WaterSense Program (Renewal)

AGENCY: Environmental Protection Agency (EPA).

ACTION: Notice.

SUMMARY: The Environmental Protection Agency has submitted an information collection request (ICR), “EPA's WaterSense Program (Renewal)” (EPA ICR No. 2233.06, OMB Control No. 2040-0272) to the Office of Management and Budget (OMB) for review and approval in accordance with the Paperwork Reduction Act (44 U.S.C. 3501 et seq.). This is a proposed extension of the ICR, which is currently approved through June 30, 2013. Public comments were previously requested via the Federal Register (78 FR 13872) on March 1, 2013 during a 60-day comment period. No comments were received. This notice allows for an additional 30 days for public comments. A fuller description of the ICR is given below, including its estimated burden and cost to the public. An Agency may not conduct or sponsor and a person is not required to respond to a collection of information unless it displays a currently valid OMB control number.

DATES: Additional comments may be submitted on or before July 24, 2013.

ADDRESSES: Submit your comments, referencing Docket ID Number EPA-HQ-OW-2006-0408, to (1) EPA online using www.regulations.gov (our preferred method), by email to OW-Docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Alicia Marrs, WaterSense Branch, Municipal Support Division, Office of Wastewater Management, Office of Water, U.S. Environmental Protection Agency, Mail Code 4204M, 1200 Pennsylvania Ave. NW., Washington, DC 20460; telephone number: 303-312-6269; fax number: 1-877-876-9101; email address: marrs.alicia@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Abstract: WaterSense is a voluntary program designed to create self-sustaining markets for water-efficient products and services via a common label. The program provides incentives for manufacturers and builders to design, produce, and market water-efficient products and homes. In addition, the program provides incentives for certified professionals (e.g. certified irrigation auditors, designers, or installation and maintenance professionals) to deliver water-efficient services. The program also encourages consumers and commercial and institutional purchasers of water-using products and systems to choose water-efficient products and use water-efficient practices.

As part of strategic planning efforts, EPA encourages programs to develop meaningful performance measures, set ambitious targets, and link budget expenditures to results. Data collected under this ICR will assist WaterSense in demonstrating results and carrying out evaluation efforts to ensure continual program improvement. In addition, the data will help EPA estimate water and energy savings and inform future product categories and specifications.

Form Numbers: * Forms not yet finalized in italics.

Partnership Agreement: Irrigation partners (6100-07), Promotional partners (6100-06), Retailers/distributors (6100-12). Manufacturers (6100-13), Professional Certifying Organizations (6100-07), Builders (6100-19), Licensed Certification Providers (6100-20), Licensed Certifying Body (6100-13)

Annual Reporting Form: Promotional partners (6100-09), Manufacturers (6100-09), Retailers/Distributors (6100-09), Builders (6100-09), Professional Certifying Organizations (6100-X1)

Provider Quarterly Reporting Form: Licensed Certification Providers (6100-09)

Award Application Form: Irrigation Partners (6100-17), Promotional Partners (6100-17), Manufacturers (6100-17), Retailers/Distributors (6100-17), Builders (6100-17), Licensed Certification Providers (6100-17), Professional Certifying Organizations (6100-17)

Consumer Awareness Survey: Survey form (6100-X2)

Respondents/affected entities: Respondents will consist of WaterSense partners and participants in the consumer survey. WaterSense partners include product manufacturers; professional certifying organizations; retailers; distributors; utilities; federal, state, and local governments; home builders; irrigation professionals; licensed certification providers; and NGOs.

Respondent's obligation to respond: Voluntary.

Estimated number of respondents: 1,087 (total).

Frequency of response: Once a prospective partner organization reviews WaterSense materials and decides to join the program, it will submit the appropriate Partnership Agreement for its partnership category (this form is only submitted once). Each year, EPA also asks partners to submit an Annual Reporting Form and Awards Application (voluntarily at the partner's discretion). Licensed certification providers for WaterSense-labeled new homes are asked to submit a Provider Quarterly Reporting Form four times each year. EPA also will conduct a Consumer Awareness Survey once over the three-year period of the ICR.

Total estimated burden: 4,110 hours (per year). Burden is defined at 5 CFR 1320.03(b).

Total estimated cost: $316,018 (per year), includes $1,282 annualized capital or operation & maintenance costs.

Changes in the Estimates: There is a decrease of 17,141 hours in the estimated burden on respondents compared with the ICR currently approved by OMB.

Richard T. Westlund,
Acting Director, Collection Strategies Division.

[FR Doc. 2013-15028 Filed 6-21-13; 8:45 am]

BILLING CODE 6560-50-P